DEPARTMENT OF COMMERCE

Bureau of Industry and Security

15 CFR Part 744

[Docket No. 160719631-6631-01]

RIN 0694—AH06

Addition of Certain Persons to the Entity List

AGENCY: Bureau of Industry and Security, Commerce.

ACTION: Final rule.

SUMMARY: This final rule amends the Export Administration Regulations (EAR) by adding ten persons under fourteen entries to the Entity List. The ten persons who are added to the Entity List have been determined by the U.S. Government to be acting contrary to the national security or foreign policy interests of the United States. These ten persons will be listed on the Entity List under the destinations of Iraq, the Philippines, Syria, and Turkey.

DATES: This rule is effective August 23, 2016.

FOR FURTHER INFORMATION CONTACT: Chair, End-User Review Committee, Office of the Assistant Secretary, Export Administration, Bureau of Industry and Security, Department of Commerce, Phone: (202) 482-5991, Fax: (202) 482-3911, Email: ERC@bis.doc.gov.

SUPPLEMENTARY INFORMATION:

Background

The Entity List (Supplement No. 4 to part 744) identifies entities and other persons reasonably believed to be involved, or to pose a significant risk of being or becoming involved, in activities contrary to the national security or foreign policy interests of the United States. The EAR imposes additional license requirements on, and limits the availability, of most license exceptions for, exports, reexports, and transfers (in-country) to those listed. The “license review policy” for each listed entity or other person is identified in the License Review Policy column on the Entity List and the impact on the availability of license exceptions is described in the Federal Register notice adding entities or other persons to the Entity List. BIS places entities and other persons on the Entity List pursuant to sections of part 744 (Control Policy: End-User and End-Use Based) and part 746 (Embargoes and Other Special Controls) of the EAR.

The ERC, composed of representatives of the Departments of Commerce (Chair), State, Defense, Energy and, where appropriate, the Treasury, makes all decisions regarding additions to, removals from, or other modifications to the Entity List. The ERC makes all decisions to add an entry to the Entity List by majority vote and all decisions to remove or modify an entry by unanimous vote.

ERC Entity List Decisions

Additions to the Entity List

This rule implements the decision of the ERC to add ten persons under fourteen entries to the Entity List. These ten persons are being added on the basis of § 744.11 (License requirements that apply to entities acting contrary to the national security or foreign policy interests of the United States) of the EAR. The fourteen entries added to the entity list consist of three entries in Iraq, one entry in the Philippines, four entries in Syria, and six entries in Turkey. There are fourteen entries for the ten persons because two of the persons are listed in multiple locations, resulting in four additional entries.

The ERC reviewed § 744.11(b) (Criteria for revising the Entity List) in making the determination to add these ten persons under fourteen entries to the Entity List. Under that paragraph, persons and those acting on behalf of such persons may be added to the Entity List if there is reasonable cause to believe, based on specific and articulable facts, that they have been involved, are involved, or pose a significant risk of being or becoming involved in, activities that are contrary to the national security or foreign policy interests of the United States. Paragraphs (b)(1) through (5) of § 744.11 include an illustrative list of activities that could be contrary to the national security or foreign policy interests of the United States.

Pursuant to § 744.11(b)(1) of the EAR, the ERC determined that nine persons, located in the destinations of Iraq, Syria and Turkey, be added to the Entity List for actions contrary to the national security or foreign policy interests of the United States. The ERC determined that there is reasonable cause to believe, based on specific and articulable facts, that Sekirin (Sekirin Tekstil lthalat Ihracat Ic ve Dis Ticaret Limited Sirketi), Yildiz (Ag Yildiz Insaat Gayrimenkul Tasimacilik Pazarlama Ithalat Ihracat ve Ticaret Ltd. Sirketi), and their seven associates (Luqman Yasin Yunus Shgragi, Yunus Luqman Yasin Shgragi, Abd Al Hakim Luqman Jasim Muhammad, Muhammad `ulwan Al-Shawi, Ala al-Shawi, Ali Guzel, and Jamal Jum'ah al-Shawi) have been involved in actions contrary to the national security or foreign policy interests of the United States. Sekirin, Yildiz, and their seven associates have been involved in activities that are contrary to the national security and foreign policy interests of the United States by supporting persons engaged in acts of terror as set forth in § 744.11(b)(1) of the EAR. Specifically, these entities have been providing logistical and material support to the Islamic State of Iraq and the Levant (ISIL).

In addition, pursuant to § 744.11(b), the ERC determined that one person, located in the Philippines, should be added to the Entity List for actions contrary to the national security or foreign policy interests of the United States. The ERC determined that there is reasonable cause to believe, based on specific and articulable facts, that Warren Sumaylo, has been involved in actions contrary to the national security or foreign policy interests of the United States. Specifically, in July 2014, Warren Sumaylo was indicted for exporting weapon sights and rifle scopes to the Philippines in violation of the EAR and the International Traffic in Arms Regulations (ITAR).

Pursuant to § 744.11(b) of the EAR, the ERC determined that the conduct of these ten persons raises sufficient concern that prior review of exports, reexports or transfers (in-country) of items subject to the EAR involving these persons, and the possible imposition of license conditions or license denials on shipments to the persons, will enhance BIS's ability to prevent violations of the EAR. Therefore, these ten persons are being added to the Entity List under fourteen entries.

For the ten persons under fourteen entries added to the Entity List, BIS imposes a license requirement for all items subject to the EAR and a license review policy of presumption of denial. The license requirements apply to any transaction in which items are to be exported, reexported, or transferred (in-country) to any of the persons or in which such persons act as purchaser, intermediate consignee, ultimate consignee, or end-user. In addition, no license exceptions are available for exports, reexports, or transfers (in-country) to the persons being added to the Entity List in this rule. The acronym “a.k.a.” (also known as) is used in entries on the Entity List to help exporters, reexporters and transferors better identify listed persons on the Entity List.

This final rule adds the following ten persons under fourteen entries to the Entity List:

Iraq

(1) Abd Al Hakim Luqman Jasim Muhammad,

Al Faysaliyah, Mosul, Iraq;

(2) Ag Yildiz Insaat Gayrimenkul Tasimacilik Pazarlama lthalat Ihracat ve Ticaret Ltd. Sirketi, a.k.a., the following four aliases:

—Ag Yildiz Cargo;

—Ag Yildiz Gayrimenkul;

—Yildiz Company; and

—Yildiz Shipping Company.

Irbil, Iraq; and Mosul, Iraq (See alternate addresses under Syria and Turkey); and

(3) Sekirin Tekstil Ithalat Ihracat le ve Dis Ticaret Limited Sirketi, a.k.a., the following seven aliases:

—Sekirin Textiles Export Import Limited Company;

—Al Shakirin International Transport Company;

—Shakirin Company;

—Shakrin Company;

—Sekirin Ticaret;

—Al Shakirin Company; and

—Sekirin Company.

Al Faysaliyah, Mosul, Iraq (See alternate addresses under Syria and Turkey).

Philippines

(1) Warren Sumaylo,

053 E Luna Street, Bgry Sikatuna, Butuan City, Philippines.

Syria

(1) Ag Yildiz Insaat Gayrimenkul Tasimacilik Pazarlama lthalat Ihracat ve Ticaret Ltd. Sirketi, a.k.a. the following four aliases:

—Ag Yildiz Cargo;

—Ag Yildiz Gayrimenkul;

—Yildiz Company; and

—Yildiz Shipping Company.

Al Bab, Syria (See alternate addresses under Iraq and Turkey);

(2) Jamal Jum'ah al-Shawi,

Al Bab, Syria;

(3) Muhammad `ulwan Al-Shawi,

Al Bab, Syria; and

(4) Sekirin Tekstil Ithalat Ihracat le ve Dis Ticaret Limited Sirketi, a.k.a., the following seven aliases:

—Sekirin Textiles Export Import Limited Company;

—Al Shakirin International Transport Company;

—Shakirin Company;

—Shakrin Company;

—Sekirin Ticaret;

—Al Shakirin Company; and

—Sekirin Company.

Al Bab, Syria (See alternate addresses under Iraq and Turkey).

Turkey

(1) Ag Yildiz Insaat Gayrimenkul Tasimacilik Pazarlama lthalat Ihracat ve Ticaret Ltd. Sirketi, a.k.a., the following four aliases:

—Ag Yildiz Cargo;

—Ag Yildiz Gayrimenkul;

—Yildiz Company; and

—Yildiz Shipping Company.

Guneykent Mah. Universite Blv. Tuze Sitesi Alti No: 393/B, Sahinbey, Gaziantep, Turkey (See alternate addresses under Iraq and Syria);

(2) Ala al-Shawi, a.k.a., the following one alias:

—Abu Cemal.

60147 Caddesi No. 23, Sanayi Mahallesi, Sehitkamil, Gaziantep, Turkey;

(3) Ali Guzel,

60147 Caddesi No. 23, Sanayi Mahallesi, Sehitkamil, Gaziantep, Turkey;

(4) Luqman Yasin Yunus Shgragi, a.k.a., the following two aliases:

—Lkemanasel Yosef; and

—Luqman Sehreci.

Savcili Mahalesi Turkmenler Caddesi No:2, Sahinbey, Gaziantep, Turkey; and Sanayi Mahalesi 60214 Nolu Caddesi No 11, SehitKamil, Gaziantep, Turkey;

(5) Sekirin Tekstil Ithalat Ihracat le ve Dis Ticaret Limited Sirketi, a.k.a., the following seven aliases:

—Sekirin Textiles Export Import Limited Company;

—Al Shakirin International Transport Company;

—Shakirin Company;

—Shakrin Company;

—Sekirin Ticaret;

—Al Shakirin Company; and

—Sekirin Company.

Savcili Mahalesi Turkmenler Caddesi No:2, Sahinbey, Gaziantep, Turkey; and Sanayi Mahalesi 60214 Nolu Caddesi No 11, Sehit Kamil, Gaziantep, Turkey (See alternate addresses under Iraq and Syria); and

(6) Yunus Luqman Yasin Shgragi, a.k.a., the following one alias:

—Yunus Sehreci.

Savcili Mahalesi Turkmenler Caddesi No: 2, Sahinbey, Gaziantep, Turkey; and Sanayi Mahalesi 60214 Nolu Caddesi No 11, SehitKamil, Gaziantep, Turkey.

Savings Clause

Shipments of items removed from eligibility for a License Exception or export or reexport without a license (NLR) as a result of this regulatory action that were en route aboard a carrier to a port of export or reexport, on August 23, 2016, pursuant to actual orders for export or reexport to a foreign destination, may proceed to that destination under the previous eligibility for a License Exception or export or reexport without a license (NLR).

Export Administration Act

Although the Export Administration Act expired on August 20, 2001, the President, through Executive Order 13222 of August 17, 2001, 3 CFR, 2001 Comp., p. 783 (2002), as amended by Executive Order 13637 of March 8, 2013, 78 FR 16129 (March 13, 2013) and as extended by the Notice of August 4, 2016, 81 FR 52587 (August 8, 2016), has continued the Export Administration Regulations in effect under the International Emergency Economic Powers Act. BIS continues to carry out the provisions of the Export Administration Act, as appropriate and to the extent permitted by law, pursuant to Executive Order 13222, as amended by Executive Order 13637.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and carries a burden estimate of 43.8 minutes for a manual or electronic submission. Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. The provisions of the Administrative Procedure Act (5 U.S.C. 553) requiring notice of proposed rulemaking, the opportunity for public comment and a delay in effective date are inapplicable to this rule because this regulation involves a military or foreign affairs function of the United States. (See 5 U.S.C. 553(a)(1)). BIS implements this rule to protect U.S. national security or foreign policy interests by preventing items from being exported, reexported, or transferred (in country) to the persons being added to the Entity List. If this rule were delayed to allow for notice and comment and a delay in effective date, the entities being added to the Entity List by this action would continue to be able to receive items without a license and to conduct activities contrary to the national security or foreign policy interests of the United States. In addition, publishing a proposed rule would give these parties notice of the U.S. Government's intention to place them on the Entity List and would create an incentive for these persons to either accelerate receiving items subject to the EAR to conduct activities that are contrary to the national security or foreign policy interests of the United States, and/or to take steps to set up additional aliases, change addresses, and other measures to try to limit the impact of the listing on the Entity List once a final rule was published. Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et seq., are not applicable. Accordingly, no regulatory flexibility analysis is required and none has been prepared.

List of Subjects in 15 CFR Part 744

Exports, Reporting and recordkeeping requirements, Terrorism.

Accordingly, part 744 of the Export Administration Regulations (15 CFR parts 730 through 774) is amended as follows:

PART 744—[AMENDED]

1. The authority citation for 15 CFR part 744 continues to read as follows:

Authority: 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 18, 2015, 80 FR 57281 (September 22, 2015); Notice of November 12, 2015, 80 FR 70667 (November 13, 2015); Notice of January 20, 2016, 81 FR 3937 (January 22, 2016) ; Notice of August 4, 2016, 81 FR 52587 (August 8, 2016).

2. Supplement No. 4 to part 744 is amended:

a. By adding in alphabetical order, an entry for Iraq and three Iraqi entities;

b. By adding in alphabetical order, an entry for Philippines and one Filipino entity;

c. By adding under Syria, in alphabetical order, four Syrian entities; and

d. By adding under Turkey, in alphabetical order, six Turkish entities. The additions read as follows:

Supplement No. 4 to Part 744—Entity List

Country | Entity | License requirement | License review policy | Federal Register citation
* * * * * * *
IRAQ | Abd Al Hakim Luqman Jasim Muhammad, Al Faysaliyah, Mosul, Iraq. | For all items subject to the EAR. (See § 744.11 of the EAR). | Presumption of denial. | 81 FR [INSERT FR PAGE NUMBER], 08/23/16.
| Ag Yildiz Insaat Gayrimenkul Tasimacilik Pazarlama lthalat Ihracat ve Ticaret Ltd. Sirketi, a.k.a. the following four aliases: —Ag Yildiz Cargo; | For all items subject to the EAR. (See § 744.11 of the EAR). | Presumption of denial. | 81 FR [INSERT FR PAGE NUMBER], 08/23/16.
| —Ag Yildiz Gayrimenkul;
| —Yildiz Company; and
| —Yildiz Shipping Company.
| Irbil, Iraq; and Mosul, Iraq (See alternate addresses under Syria and Turkey).
| Sekirin Tekstil Ithalat Ihracat le ve Dis Ticaret Limited Sirketi, a.k.a., the following seven aliases: Sekirin Textiles Export Import Limited Company; | For all items subject to the EAR. (See § 744.11 of the EAR). | Presumption of denial. | 81 FR [INSERT FR PAGE NUMBER], 08/23/16.
| —Al Shakirin International Transport Company;
| —Shakirin Company;
| —Shakrin Company;
| —Sekirin Ticaret;
| —Al Shakirin Company; and
| —Sekirin Company. | Al Faysaliyah, Mosul, Iraq (See alternate addresses under Syria and Turkey).
* * * * * * *
PHILIPPINES | Warren Sumaylo, 053 E Luna Street, Bgry Sikatuna, Butuan City, Philippines. | For all items subject to the EAR. (See § 744.11 of the EAR). | Presumption of denial. | 81 FR [INSERT FR PAGE NUMBER], 08/23/16.
* * * * * * *
SYRIA | Ag Yildiz Insaat Gayrimenkul Tasimacilik Pazarlama lthalat Ihracat ve Ticaret Ltd. Sirketi, a.k.a., the following four aliases: | For all items subject to the EAR. (See § 744.11 of the EAR). | Presumption of denial. | 81 FR [INSERT FR PAGE NUMBER], 08/23/16.
| —Ag Yildiz Cargo;
| —Ag Yildiz Gayrimenkul;
| —Yildiz Company; and
| —Yildiz Shipping Company.
| Al Bab, Syria (See alternate addresses under Iraq and Turkey).
* * * * * * *
| Jamal Jum'ah al-Shawi, Al Bab, Syria. | For all items subject to the EAR. (See § 744.11 of the EAR). | Presumption of denial. | 81 FR [INSERT FR PAGE NUMBER], 08/23/16.
* * * * * * *
| Muhammad `ulwan Al-Shawi, Al Bab, Syria | For all items subject to the EAR. (See § 744.11 of the EAR). | Presumption of denial. | 81 FR [INSERT FR PAGE NUMBER], 08/23/16.
* * * * * * *
| Sekirin Tekstil Ithalat Ihracat le ve Dis Ticaret Limited Sirketi, a.k.a., the following seven aliases: —Sekirin Textiles Export Import Limited Company; | For all items subject to the EAR. (See § 744.11 of the EAR). | Presumption of denial. | 81 FR [INSERT FR PAGE NUMBER], 08/23/16.
| —Al Shakirin International Transport Company;
| —Shakirin Company;
| —Shakrin Company;
| —Sekirin Ticaret;
| —Al Shakirin Company; and
| —Sekirin Company. | Al Bab, Syria (See alternate addresses under Iraq and Turkey).
* * * * * * *
TURKEY | Ag Yildiz Insaat Gayrimenkul Tasimacilik Pazarlama lthalat Ihracat ve Ticaret Ltd. Sirketi, a.k.a., the following four aliases: | For all items subject to the EAR. (See § 744.11 of the EAR). | Presumption of denial. | 81 FR [INSERT FR PAGE NUMBER], 08/23/16.
| —Ag Yildiz Cargo;
| —Ag Yildiz Gayrimenkul;
| —Yildiz Company; and
| —Yildiz Shipping Company.
| Guneykent Mah. Universite Blv. Tuze Sitesi Alti No: 393/B, Sahinbey, Gaziantep, Turkey (See alternate addresses under Iraq and Syria).
* * * * * * *
| Ala al-Shawi, a.k.a., the following one alias: —Abu Cemal. 60147 Caddesi No. 23, Sanayi Mahallesi, Sehitkamil, Gaziantep, Turkey. | For all items subject to the EAR. (See § 744.11 of the EAR). | Presumption of denial. | 81 FR [INSERT FR PAGE NUMBER], 08/23/16.
| Ali Guzel, 60147 Caddesi No. 23, Sanayi Mahallesi, Sehitkamil, Gaziantep, Turkey. | For all items subject to the EAR. (See § 744.11 of the EAR). | Presumption of denial. | 81 FR [INSERT FR PAGE NUMBER], 08/23/16.
* * * * * * *
| Luqman Yasin Yunus Shgragi, a.k.a., the following two aliases: —Lkemanasel Yosef; and —Luqman Sehreci. | For all items subject to the EAR. (See § 744.11 of the EAR). | Presumption of denial. | 81 FR [INSERT FR PAGE NUMBER], 08/23/16.
| Savcili Mahalesi Turkmenler Caddesi No:2, Sahinbey, Gaziantep, Turkey; and Sanayi Mahalesi 60214 Nolu Caddesi No 11, SehitKamil, Gaziantep, Turkey.
* * * * * * *
| Sekirin Tekstil Ithalat Ihracat le ve Dis Ticaret Limited Sirketi, a.k.a., the following seven aliases: —Sekirin Textiles Export Import Limited Company; | For all items subject to the EAR. (See § 744.11 of the EAR). | Presumption of denial. | 81 FR [INSERT FR PAGE NUMBER], 08/23/16.
| —Al Shakirin International Transport Company;
| —Shakirin Company;
| —Shakrin Company;
| —Sekirin Ticaret;
| —Al Shakirin Company; and
| —Sekirin Company.
| Savcili Mahalesi Turkmenler Caddesi No:2, Sahinbey, Gaziantep, Turkey; and Sanayi Mahalesi 60214 Nolu Caddesi No 11, Sehit Kamil, Gaziantep, Turkey (See alternate addresses under Iraq and Syria).
* * * * * * *
| Yunus Luqman Yasin Shgragi, a.k.a., the following one alias: —Yunus Sehreci. Savcili Mahalesi Turkmenler Caddesi No: 2, Sahinbey, Gaziantep, Turkey; and Sanayi Mahalesi 60214 Nolu Caddesi No 11, SehitKamil, Gaziantep, Turkey. | For all items subject to the EAR. (See § 744.11 of the EAR). | Presumption of denial. | 81 FR [INSERT FR PAGE NUMBER], 08/23/16.
* * * * * * *

Dated: August 17, 2016.
Kevin J. Wolf,
Assistant Secretary for Export Administration.

[FR Doc. 2016-20142 Filed 8-22-16; 8:45 am]

BILLING CODE 3510-33-P